DEPARTMENT OF HEALTH AND HUMAN SERVICES

National Institutes of Health

Office of the Director, National Institutes of Health; Amended Notice of Meeting

Notice is hereby given of a change in the meeting of the Office of Research Infrastructure Programs Special Emphasis Panel, October 08, 2013, 08:00 a.m. to October 09, 2013, 05:00 p.m., Hilton Washington/Rockville, 1750 Rockville Pike, Rockville, MD 20852, which was published in the Federal Register on September 16, 2013, 78 FR 56903.

The dates of the meeting are changed from October 8-9, 2013 to December 10-12, 2013 and changed from an in-person meeting to internet assistant review. The meeting is closed to the public.

Dated: October 30, 2013.
David Clary,
Program Analyst, Office of Federal Advisory Committee Policy.

[FR Doc. 2013-26432 Filed 11-4-13; 8:45 am]

BILLING CODE 4140-01-P